DEPARTMENT OF LABOR

Employment and Training Administration

[TA-W-65,598]

Lincoln Electric/Harris Products Group, Mason, OH; Notice of Termination of Investigation

Pursuant to Section 221 of the Trade Act of 1974, as amended, an investigation was initiated on March 16, 2009 in response to a petition filed on behalf of workers of Lincoln Electric/Harris Products Group, Mason, Ohio.

The petitioners have requested that the petition be withdrawn. Therefore, the investigation under this petition has been terminated.

Signed at Washington, DC, this 9th day of April 2009.
Linda G. Poole,
Certifying Officer, Division of Trade Adjustment Assistance.

[FR Doc. E9-10882 Filed 5-8-09; 8:45 am]

BILLING CODE 4510-FN-P